DEPARTMENT OF STATE

[Public Notice 6573]

Fine Arts Committee Notice of Meeting

The Fine Arts Committee of the Department of State will meet on April 30, 2009 at 1:30 p.m. in the Henry Clay Room of the Harry S. Truman Building, 2201 C Street, NW., Washington, DC. The meeting will last until approximately 3 p.m. and is open to the public.

The agenda for the committee meeting will include a summary of the work of the Fine Arts Office since its last meeting on November 13, 2008 and the announcement of gifts and loans of furnishings as well as financial contributions from January 1, 2008 through December 31, 2008.

Public access to the Department of State is strictly controlled and space is limited. Members of the public wishing to take part in the meeting should telephone the Fine Arts Office at (202) 647-1990 or send an e-mail to BurdenVK@State.gov by April 23 to make arrangements to enter the building. The public may take part in the discussion as long as time permits and at the discretion of the chairman.

Dated: March 2, 2009.
Marcee Craighill,
Secretary, Fine Arts Committee, Department of State.

[FR Doc. E9-8121 Filed 4-8-09; 8:45 am]

BILLING CODE 4710-35-P